DEPARTMENT OF TRANSPORTATION

Federal Aviation Administration

14 CFR Part 39

[Docket No. FAA-2020-0917; Project Identifier MCAI-2020-00606-A; Amendment 39-21467; AD 2021-06-01]

RIN 2120-AA64

Airworthiness Directives; Pilatus Aircraft Ltd. Airplanes

AGENCY: Federal Aviation Administration (FAA), DOT.

ACTION: Final rule.

SUMMARY: The FAA is adopting a new airworthiness directive (AD) for all Pilatus Aircraft Ltd. (Pilatus) Model PC-24 airplanes. This AD was prompted by a report that electronic circuit breakers (ECBs) were found in a locked state after maintenance, but before flight. This AD requires revising the airplane flight manual (AFM) to incorporate a procedure to check for the ECB status. The FAA is issuing this AD to address the unsafe condition on these products.

DATES: This AD is effective May 4, 2021.

The Director of the Federal Register approved the incorporation by reference of a certain publication listed in this AD as of May 4, 2021.

ADDRESSES: For service information identified in this final rule, contact Pilatus Aircraft Ltd., Customer Technical Support (MCC), P.O. Box 992, CH-6371 Stans, Switzerland; phone: +41 (0)41 619 67 74; fax: +41 (0)41 619 67 73; email: techsupport.ch@pilatus-aircraft.com; website: https://www.pilatus-aircraft.com/. You may view this service information at the FAA, Airworthiness Products Section, Operational Safety Branch, 901 Locust Street, Kansas City, MO. For information on the availability of this material at the FAA, call (816) 329-4148. It is also available at https://www.regulations.gov by searching for and locating Docket No. FAA-2020-0917.

Examining the AD Docket

You may examine the AD docket at https://www.regulations.gov by searching for and locating Docket No. FAA-2020-0917; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

FOR FURTHER INFORMATION CONTACT: Doug Rudolph, Aviation Safety Engineer, FAA, General Aviation & Rotorcraft Section, International Validation Branch, 901 Locust Street, Room 301, Kansas City, MO 64106; phone: (816) 329-4059; fax: (816) 329-4090; email: doug.rudolph@faa.gov.

SUPPLEMENTARY INFORMATION:

Background

The FAA issued a notice of proposed rulemaking (NPRM) to amend 14 CFR part 39 by adding an AD that would apply to all Pilatus Model PC-24 airplanes. The NPRM published in the Federal Register on October 23, 2020 (85 FR 67465). The NPRM was prompted by MCAI originated by the European Union Aviation Safety Agency (EASA), which is the Technical Agent for the Member States of the European Community. EASA has issued EASA AD No. 2020-0096, dated April 29, 2020 (referred to after this as “the MCAI”), to correct an unsafe condition for Pilatus Model PC-24 airplanes. The MCAI states:

An occurrence was reported where, before take-off after maintenance of a PC-24 aeroplane, some electronic circuit breakers (ECB) were found in a “LOCKED” state.

This condition, if not corrected, could lead to a loss of power supply to equipment, without indication to the flight crew before take-off.

To address this potential unsafe condition, Pilatus issued the AFM [temporary revision] TR, as defined in this [EASA] AD, to provide operators with the necessary preflight check instructions.

For the reason described above, this [EASA] AD requires amendment of the AFM.

You may examine the MCAI in the AD docket at https://www.regulations.gov by searching for and locating Docket No. FAA-2020-0917.

In the NPRM, the FAA proposed to require revising the AFM to incorporate a procedure to check for the ECB status. The FAA is issuing this AD to address the unsafe condition on these products.

Discussion of the Final Airworthiness Directive Comments

The FAA received a comment from Pilatus. The following presents the comment received on the NPRM and the FAA's response to the comment.

Request To Refer to Revised Service Information

Pilatus stated that the temporary revision referenced in the NPRM has been incorporated into page 4-3-9, dated October 7, 2020, of the “Before Engine Start” procedure (4-PF-04), in Section 4 of Pilatus PC-24 Airplane Flight Manual, Report No. 02371, Issue 003 Revision 03, dated October 8, 2020 (AFM Revision 03). Pilatus requested that the FAA change the proposed AD to require using AFM Revision 03 instead of the temporary revision.

The FAA partially agrees. This AD requires adding the language in the temporary revision. However, the FAA has added wording to paragraph (g) of this AD to still allow compliance if later revisions of the AFM contain language identical to that in the temporary revision, such as the page referenced by the commenter.

Conclusion

This product has been approved by the aviation authority of another country and is approved for operations in the United States. Pursuant to our bilateral agreement with this state of Design Authority, it has notified the FAA of the unsafe condition described in the MCAI and service information reference above. The FAA reviewed the relevant data, considered the comment received, and determined that air safety requires adopting this AD as proposed. Accordingly, the FAA is issuing this AD to address the unsafe condition on these products. Except for the changes described previously, this AD is adopted as proposed in the NPRM.

Related Service Information Under 1 CFR Part 51

The FAA reviewed [Pilatus] PC-24 Temporary Revision 02371-016 to PC-24 Airplane Flight Manual, PC24-A-A15-99-0031-00A-0030A-A, dated November 1, 2019. The service information contains a step to be added to the pilot preflight procedures to check the ECB status. This service information is reasonably available because the interested parties have access to it through their normal course of business or by the means identified in the ADDRESSES section.

Costs of Compliance

The FAA estimates that this AD affects 30 airplanes of U.S. registry. The FAA estimates the following costs to comply with this AD:

Estimated Costs
Action | Labor cost | Parts cost | Cost per product | Cost on U.S. operators
Revise the AFM | 1 work-hour × $85 per hour = $85 | $0 | $85 | $2,550

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2021-06-01 Pilatus Aircraft Ltd.: Amendment 39-21467; Docket No. FAA-2020-0917; Project Identifier MCAI-2020-00606-A.

(a) Effective Date

This airworthiness directive (AD) is effective May 4, 2021.

(b) Affected ADs

None.

(c) Applicability

This AD applies to Pilatus Aircraft Ltd. Model PC-24 airplanes, all serial numbers, certificated in any category.

(d) Subject

Air Transport Association (ATA) of America Code 24, Electrical Power.

(e) Reason

This AD was prompted by a report that electronic circuit breakers (ECBs) were found in a locked state after maintenance, but before flight. ECBs were turned off prior to maintenance and then not reset properly after maintenance was complete. The FAA is issuing this AD to prevent improperly set ECBs, which if not detected, could lead to loss of power supply to equipment without indication to the flightcrew before take-off.

(f) Compliance

Comply with this AD within the compliance times specified, unless already done.

(g) Revision of the Airplane Flight Manual (AFM)

Within 30 days after the effective date of this AD, revise Section 4 of the existing AFM for your airplane by replacing the information as specified in [Pilatus] PC-24 Temporary Revision 02371-016 to PC-24 Airplane Flight Manual, PC24-A-A15-99-0031-00A-0030A-A, dated November 1, 2019 (PC-24 TR 02371-016). Using a different document with information identical to that contained in PC-24 TR 02371-016 is acceptable for compliance with the requirements of this paragraph.

(h) Alternative Methods of Compliance (AMOCs)

The Manager, International Validation Branch, FAA, has the authority to approve AMOCs for this AD, if requested using the procedures found in 14 CFR 39.19. Send information to: Doug Rudolph, Aviation Safety Engineer, FAA, General Aviation & Rotorcraft Section, International Validation Branch, 901 Locust Street, Room 301, Kansas City, MO 64106; phone: (816) 329-4059; fax: (816) 329-4090; email: doug.rudolph@faa.gov. In accordance with 14 CFR 39.19, send your request to your principal inspector or local Flight Standards District Office, as appropriate. Before using any approved AMOC, notify your appropriate principal inspector, or lacking a principal inspector, the manager of the local flight standards district office/certificate holding district office.

(i) Related Information

(1) For more information about this AD, contact Doug Rudolph, Aviation Safety Engineer, FAA, General Aviation & Rotorcraft Section, International Validation Branch, 901 Locust Street, Room 301, Kansas City, MO 64106; phone: (816) 329-4059; fax: (816) 329-4090; email: doug.rudolph@faa.gov.

(2) Refer to European Union Aviation Safety Agency (EASA) AD No. 2020-0096, dated April 29, 2020, for more information. You may examine the EASA AD in the AD docket at https://www.regulations.gov by searching for and locating Docket No. FAA-2020-0917.

(j) Material Incorporated by Reference

(1) The Director of the Federal Register approved the incorporation by reference of the service information listed in this paragraph under 5 U.S.C. 552(a) and 1 CFR part 51.

(2) You must use this service information as applicable to do the actions required by this AD, unless the AD specifies otherwise.

(i) [Pilatus] PC-24 Temporary Revision 02371-016 to PC-24 Airplane Flight Manual, PC24-A-A15-99-0031-00A-0030A-A, dated November 1, 2019.

(ii) [Reserved]

(3) For Pilatus service information identified in this AD, contact Pilatus Aircraft Ltd., Customer Technical Support (MCC), P.O. Box 992, CH-6371 Stans, Switzerland; phone: +41 (0)41 619 67 74; fax: +41 (0)41 619 67 73; email: techsupport.ch@pilatus-aircraft.com; website: https://www.pilatus-aircraft.com.

(4) You may view this service information at FAA, Airworthiness Products Section, Operational Safety Branch, 901 Locust Street, Kansas City, MO. For information on the availability of this material at the FAA, call 7(816) 329-4148.

(5) You may view this service information that is incorporated by reference at the National Archives and Records Administration (NARA). For information on the availability of this material at NARA, email: fedreg.legal@nara.gov, or go to: https://www.archives.gov/federal-register/cfr/ibr-locations.html.

Issued on March 1, 2021.
Gaetano A. Sciortino,
Deputy Director for Strategic Initiatives, Compliance & Airworthiness Division, Aircraft Certification Service.

[FR Doc. 2021-06514 Filed 3-29-21; 8:45 am]

BILLING CODE 4910-13-P